DEPARTMENT OF EDUCATION

National Advisory Committee on Institutional Quality and Integrity: Notice of Membership

AGENCY: National Advisory Committee on Institutional Quality and Integrity, Office of Postsecondary Education, Department of Education.

What is the purpose of this notice?

The purpose of this notice is to list the members of the National Advisory Committee on Institutional Quality and Integrity (NACIQI). This notice is required under Section 114(e)(1) of the Higher Education Act (HEA) of 1965, as amended.

What is the role of NACIQI?

The NACIQI is established under Section 114 of the HEA, and its members are appointed—

(A) On the basis of the individuals' experience, integrity, impartiality, and good judgment;

(B) From among individuals who are representatives of, or knowledgeable concerning, education and training beyond secondary education, representing all sectors and types of institutions of higher education; and,

(C) On the basis of the individuals' technical qualifications, professional standing, and demonstrated knowledge in the fields of accreditation and administration of higher education.

The NACIQI meets at least twice a year and provides recommendations to the Secretary of Education pertaining to:

• The establishment and enforcement of the standards of accrediting agencies or associations under subpart 2 of part H of Title IV, HEA.

• The recognition of specific accrediting agencies or associations.

• The preparation and publication of the list of nationally recognized accrediting agencies and associations.

• The eligibility and certification process for institutions of higher education under Title IV of the HEA.

• The relationship between (1) accreditation of institutions of higher education and the certification and eligibility of such institutions, and (2) State licensing responsibilities with respect to such institutions.

• Any other advisory functions relating to accreditation and institutional eligibility that the Secretary may prescribe by regulation.

Who are the current members of the committee?

The current members of the NACIQI are:

Members Appointed by Secretary of Education Arne Duncan With Terms Expiring September 30, 2019

• Susan D. Phillips, Ph.D., NACIQI Chair; Provost and Vice President for Academic Affairs, The State University of New York at Albany, Albany, New York.

• Simon J. Boehme, Student, Senior, Cornell University, Ithaca, New York.

• Roberta L. Derlin, Ph.D., Associate Provost, New Mexico State University, Las Cruces, New Mexico.

• Frank H. Wu, J.D., Chancellor and Dean, University of California, Hastings College of the Law, San Francisco, California.

• Federico Zaragoza, Ph.D., Vice Chancellor of Economic and Workforce Development, Alamo Community College District, San Antonio, Texas.

• The 6th Secretarial appointment is in-process.

Members Appointed by the Speaker of the House of Representatives With Terms Expiring September 30, 2014

• Arthur Keiser, Ph.D., NACIQI Vice-Chair; Chancellor, Keiser University, Fort Lauderdale, Florida.

• George T. French, Jr., Ph.D., President, Miles College, Fairfield, Alabama.

• William E. Kirwan, Ph.D., Chancellor, University System of Maryland, College Park, Maryland.

• William Pepicello, Ph.D., President, University of Phoenix, Phoenix, Arizona.

• Arthur J. Rothkopf, J.D., President Emeritus, Lafayette College, Easton, Pennsylvania. (Mr. Rothkopf resides in Washington, DC).

• Carolyn G. Williams, Ph.D., President Emeritus, Bronx Community College, City University of New York, Bronx, New York.

Members Appointed by the President Pro Tempore of the Senate With Terms Expiring September 30, 2016

• William L. Armstrong, President, Colorado Christian University, Lakewood, Colorado.

• Jill Derby, Ph.D., Governance Consultant, Association of Governing Boards of Colleges and Universities, Washington, DC.

• Anne D. Neal, J.D., President, American Council of Trustees and Alumni, Washington, DC.

• Richard F. O'Donnell, Chief Revenue Officer, The Fullbridge Program, Cambridge, Massachusetts.

• Cameron C. Staples, J.D., President and Chief Executive Officer (CEO), New England Association of Schools and Colleges, Bedford, Massachusetts.

• Larry N. Vanderhoef, Ph.D., Chancellor Emeritus, University of California-Davis, Davis, California.

How can I obtain additional information?

If you have any specific questions about the NACIQI, please contact Carol Griffiths, Executive Director, NACIQI, telephone (202) 219-7009, fax (202) 502-7874, email: Carol.Griffiths@ed.gov, between 9:00 a.m. and 5:00 p.m., Monday through Friday.

Electronic Access to This Document: The official version of this document is the document published in the Federal Register. Free Internet access to the official edition of the Federal Register and the Code of Federal Regulations is available via the Federal Digital System at www.gpo.gov/fdsys. At this site you can view this document, as well as all other documents of this Department published in the Federal Register, in text or Adobe Portable Document Format (PDF). To use PDF, you must have Adobe Acrobat Reader, which is available free at the site. You may also access documents of the Department published in the Federal Register by using the article search feature at: www.federalregister.gov. Specifically, through the advanced search feature at this site, you can limit your search to documents published by the Department.

Arne Duncan,
Secretary of Education.

[FR Doc. 2014-00830 Filed 1-16-14; 8:45 am]

BILLING CODE 4000-01-P